DEPARTMENT OF THE INTERIOR

Bureau of Land Management

[NM-030-1610-00]

Intent To Prepare a Resource Management Plan Amendment (RMPA) and Environmental Impact Statement (EIS) for McGregor Range in Otero County, New Mexico

AGENCY: Bureau of Land Management (BLM), Interior.

ACTION: Notice of Intent to Prepare a Resource Management Plan Amendment (RMPA) and Environmental Impact Statement (EIS) for McGregor Range, New Mexico and Notice of Scoping Meetings.

SUMMARY: Pursuant to Section 102 (2)(C) of the National Environmental Policy Act (NEPA) of 1969, Council on Environmental Quality (CEQ) regulations (40 CFR 1500-1508), and the Federal Land Policy and Management Act (FLPMA) of 1976, the BLM, Las Cruces Field Office will direct preparation of an RMPA/EIS by URS Corporation, a qualified consultant. The RMPA/EIS will address BLM's management of the withdrawn public land within McGregor Range in Otero County, New Mexico. The RMPA/EIS shall identify areas for limited, restricted, or exclusive uses; levels of resource production; allowable resource uses; resource condition objectives; program constraints; and general management direction.

The BLM will conduct two public scoping meetings to solicit input from the public. The dates, times, and locations for these meetings are as follows:

Date | Location
Wednesday, June 20, 2001, 6:30 p.m. to 8:30 p.m | Otero County Courthouse, Commission Chambers, Room 253, 1000 New York Ave., Alamogordo, New Mexico.
Thursday, June 21, 2001, 6:30 p.m. to 8:30 p.m | BLM—Las Cruces Field Office, 1800 Marquess Las Cruces, New Mexico.

DATES: Written comments will be accepted through July 5, 2001.

ADDRESSES: Comments should be sent to: Tom Phillips, BLM, Las Cruces Field Office, 1800 Marquess, Las Cruces, NM 88005.

FOR FURTHER INFORMATION CONTACT: Tom Phillips, Team Leader, at (505) 525-4377 or Amy Lueders, Field Manager at (505) 525-4300.

SUPPLEMENTARY INFORMATION: In 1999 Congress passed the Military Lands Withdrawal Act (PL 106-65) which withdrew large tracts of public land for military purposes. PL 106-65 included the withdrawal of approximately 608,000 acres on McGregor Range in Southern New Mexico. The legislation directed the Secretary of the Interior to manage the natural resources on McGregor Range under FLPMA and to develop a management plan within two years of the law's enactment. The planning area will include withdrawn public land on McGregor Range in Otero County, encompassing approximately 608,000 acres administered by BLM. The BLM, will work in concert with the U.S. Army, Ft. Bliss, which will participate as a cooperating agency for the development of the RMPA/EIS.

It is anticipated that the RMPA/EIS process will require 18 months to complete and will include public and agency scoping, coordination and consultation with Federal, State, tribal, and local agencies, public review and public hearings on the published draft RMPA/draft EIS, a published proposed RMPA/final EIS, published Record of Decision, and Plan Amendment. Publication of the Record of Decision is anticipated in November, 2002.

The BLM Interdisciplinary team that will be developing this RMPA/EIS will include specialists with expertise in: soils, geology, vegetation, wildlife, livestock grazing, recreation, cultural/paleontology, and fire ecology.

BLM public information and scoping will include notification to the public and Federal, state, tribal, and local agencies of the proposed action; identification by the public of the range of issues and concerns to be considered in the EIS; development of planning criteria; and the solicitation of assistance from the public to identify reasonable alternatives. In addition, the public will have the opportunity to ask questions regarding the proposed project at scheduled public scoping meetings (see SUMMARY section of this notice).

Written comments should address: (1) Issues to be considered, (2) if the planning criteria are adequate for the issues, (3) feasible and reasonable alternatives to examine, and (4) relevant information having a bearing on the RMPA/EIS. BLM will maintain a mailing list of parties and persons interested in being kept informed about the progress of the RMPA/EIS. Documents relevant to this planning effort will be available for public review at the BLM Las Cruces Field Office located at 1800 Marquess, Las Cruces, New Mexico.

A range of reasonable alternatives, including an alternative considering no action as required by NEPA, will be developed and analyzed in the EIS. Through scoping, the public will assist in developing alternatives. The results of scoping will be sent to all those on the mailing list for this project in a newsletter or scoping report. Following an in-depth analysis of the impacts associated with the alternatives analyzed, one alternative will be selected as the agency-preferred alternative. The agency-preferred alternative will be identified in a draft RMPA/draft EIS scheduled to be released in the fall of 2001. Once the draft is released additional public review will be announced through the media and a Federal Register notice.

Anticipated Issues and Concerns

The anticipated Issues/Concerns include the following:

1. Soil and Water: Stream Channel Conditions; Water Quality; Water Quantity/Supply.

2. Vegegation: Management of Grassland Habitat; Noxious/Invasive Weeds.

3. Visual Resources: VRM classifications.

4. Special Status Species: Aplomado Falcon, Mountain Plover, and Black-tailed Prairie Dog.

5. Fire Management: Fire Control; Prescribed Fire.

6. Livestock Grazing.

7. Recreation: Public Access; Off Highway Vehicle management.

8. Minerals: Fluid Minerals; Solid Minerals.

9. Unexploded Ordinance (UXO)/Hazardous Materials.

Preliminary planning criteria for guiding the development of the RMPA/EIS include the following:

1. BLM resource management actions shall be compatible and consistent with military use in accordance with the Withdrawal Act, and must comply with all applicable laws, executive orders and regulations.

2. Clarify BLM and Fort Bliss management responsibilities on McGregor Range.

3. In each action, the resource outputs must be reasonable and achievable with available technology and budget constraints.

4. All BLM resource management actions on these withdrawn lands must be compatible with the principles of multiple-use and sustained yield.

5. Provide for public access to and across McGregor Range.

6. Provide for mineral development.

7. Identify water use needs and any impacts on existing water resources.

8. Identify the Sub-basins for McGregor Range and use it as the organization framework for the water resources discussion.

9. Maintain or improve vegetation conditions.

10. Identify any infestations of noxious/invasive weeds and provide for management alternatives to deal with existing and potential problems.

11. Provide for the harvesting of vegetation products.

12. Provide for the protection and management of the sensitive, State-listed, and Federally-listed plant and animal species.

13. Provide for livestock grazing.

14. Provide for the protection and management of wildlife habitat.

15. Identify any impacts of predator management.

16. Provide for hunting in concert with biological cycles.

17. Provide for recreational uses.

18. Establish off-highway vehicle designations.

19. Maintain or enhance visual quality.

20. Provide for the management of cultural and paleontological resources.

21. Continue to provide for the management of the Culp Canyon Wilderness Study Area under Interim Management Policy procedures pending Congressional determination.

In addition to the scoping taking place now, public participation will include consultation with affected users, and other agencies, meeting with interested groups and individuals, media notices, Federal Register notices, public meetings, and distribution of the draft RMPA/draft EIS and the proposed RMPA/final EIS.

Dated: May 2, 2001.
M. J. Chávez,
State Director.

[FR Doc. 01-12155 Filed 5-14-01; 8:45 am]

BILLING CODE 4310-VC-P